DEPARTMENT OF ENERGY

Federal Energy Regulatory Commission

[FFP Project 133, LLC; Project No. 14524-001]

Notice of Intent To File License Application, Filing of Pre-Application Document, and Approving Use of the Traditional Licensing Process

a. Type of Application: Notice of Intent to File License Application and Request to Use the Traditional Licensing Process.

b. Project No.: 14524-001.

c. Date filed: September 26, 2016.

d. Submitted by: FFP Project 133, LLC.

e. Name of Project: Dashields Locks and Dam Hydroelectric Project.

f. Location: At the existing U.S. Army Corps of Engineers' Dashields Locks and Dam on the Ohio River in Edgeworth Borough, Allegheny County, Pennsylvania. The project would occupy United States lands administered by the U.S. Army Corps of Engineers.

g. Filed Pursuant to: 18 CFR 5.3 of the Commission's regulations.

h. Potential Applicant Contact: Mr. Erik Steimle, Vice President, Development, 334 NW., 11th Ave. Portland, OR 97209, Phone: (503) 998-0230, Email: erik@ryedevelopment.com or Ms. Kellie M. Doherty, Vice President, Environmental, 745 Atlantic Ave., 8th Floor, Boston, MA 02111, Phone: (617) 701-3288, Email: kellie@ryedevelopment.com.

i. FERC Contact: Brandi Sangunett, Phone: (202) 502-8393, Email: brandi.sangunett@ferc.gov.

j. FFP Project 133, LLC filed its request to use the Traditional Licensing Process on September 26, 2016. FFP Project 133, LLC provided public notice of its request on September 26, 2016. In a letter dated November 25, 2016, the Director of the Division of Hydropower Licensing approved FFP Project 133, LLC's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Pennsylvania State Historic Preservation Office, as required by section 106, National Historic Preservation Act, and the implementing regulations of the Advisory Council on Historic Preservation at 36 CFR 800.2.

l. With this notice, we are designating FFP Project 133, LLC as the Commission's non-federal representative for carrying out informal consultation pursuant to section 7 of the Endangered Species Act and section 305(b) of the Magnuson-Stevens Fishery Conservation and Management Act; and consultation pursuant to section 106 of the National Historic Preservation Act.

m. FFP Project 133, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filings and issuances related to this or other pending projects. For assistance, contact FERC Online Support.

Dated: November 25, 2016.
Kimberly D. Bose,
Secretary.

[FR Doc. 2016-28849 Filed 11-30-16; 8:45 am]

BILLING CODE 6717-01-P